DEPARTMENT OF TRANSPORTATION

Federal Aviation Administration

14 CFR Part 39

[Docket No. FAA-2006-25089; Directorate Identifier 2006-NM-091-AD]

RIN 2120-AA64

Airworthiness Directives; McDonnell Douglas Model MD-11 and -11F Airplanes

AGENCY: Federal Aviation Administration (FAA), Department of Transportation (DOT).

ACTION: Notice of proposed rulemaking (NPRM).

SUMMARY: The FAA proposes to supersede an existing airworthiness directive (AD) that applies to certain McDonnell Douglas Model MD-11 and -11F airplanes. The existing AD currently requires an initial general visual inspection of the power feeder cables of the integrated drive generator (IDG) and the fuel feed lines of engine pylons No. 1 and No. 3 on the wings for proper clearance and damage; corrective actions if necessary; and repetitive general visual inspections and a terminating action for the repetitive inspections. This proposed AD would continue to require the existing actions, and for certain airplanes, this proposed AD would require installation of new clamps on the power feeder cables of the IDG of engine pylons No. 1 and No. 3. This proposed AD results from reports of IDG power feeder cables riding against structure and fuel lines in the No. 1 and No. 3 pylons. We are proposing this AD to prevent potential chafing of the power feeder cables of the IDG in engine pylons No. 1 and No. 3 on the wings, and consequent arcing on the fuel lines in the engine pylons and possible fuel fire.

DATES: We must receive comments on this proposed AD by August 7, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Boeing Commercial Airplanes, Long Beach Division, 3855 Lakewood Boulevard, Long Beach, California 90846, Attention: Data and Service Management, Dept. C1-L5A (D800-0024), for service information identified in this proposed AD.

FOR FURTHER INFORMATION CONTACT: Brett Portwood, Aerospace Engineer, Systems and Equipment Branch, ANM-130L, FAA, Los Angeles Aircraft Certification Office, 3960 Paramount Boulevard, Lakewood, California 90712; telephone (562) 627-5350; fax (562) 627-5210.

SUPPLEMENTARY INFORMATION:

Comments Invited

We invite you to submit any relevant written data, views, or arguments regarding this proposed AD. Send your comments to an address listed in the ADDRESSES section. Include the docket number “Docket No. FAA-2006-25089; Directorate Identifier 2006-NM-091-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that web site, anyone can find and read the comments in any of our dockets, including the name of the individual who sent the comment (or signed the comment on behalf of an association, business, labor union, etc.). You may review the DOT's complete Privacy Act Statement in the Federal Register published on April 11, 2000 (65 FR 19477-78), or may can visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

On January 2, 2004, we issued AD 2004-01-17, amendment 39-13431 (69 FR 2657, January 20, 2004), for certain McDonnell Douglas Model MD-11 and -11F airplanes. That AD requires an initial general visual inspection of the power feeder cables of the integrated drive generator (IDG) and the fuel feed lines of engine pylons No. 1 and No. 3 on the wings for proper clearance and damage; corrective actions if necessary; and repetitive general visual inspections and a terminating action for the repetitive inspections. That AD resulted from the FAA's practice of re-examining all aspects of the service experience of a particular aircraft whenever an accident occurs. We became aware of reports indicating that the power feeder cables of the integrated drive generator (IDG) are riding against structure and fuel lines in engine pylons No. 1 and No. 3 on the wings of certain McDonnell Douglas Model MD-11 and -11F airplanes. We issued that AD to prevent potential chafing of the power feeder cables of the IDG in engine pylons No. 1 and No. 3 on the wings, and consequent arcing of the fuel lines in the engine pylons and possible fuel fire.

Actions Since Existing AD Was Issued

Since we issued AD 2004-01-17, the manufacturer has notified us that certain airplanes with 4/0 size cables installed have clamps too small to install over the 4/0 size cables. Those airplanes need to have larger clamps installed. The larger clamps are needed to prevent chafing of the larger power feeder cables of the IDG.

Relevant Service Information

We have reviewed Boeing Alert Service Bulletin (ASB) MD11-54A011, Revision 3, dated November 9, 2005. Revision 3 of the ASB is essentially the same as Revision 02, dated May 31, 2002, which is the appropriate source of service information for AD 2004-01-17. In addition to the actions specified in Revision 02 of the ASB, Revision 3 of the ASB describes general visual inspections for proper clearance and damage of the power feeder cables of the IDG and the fuel feed lines of engine pylons No. 1 and No. 3 on the wings for certain airplanes, and installing larger clamps on the power feeder cables of the IDG of engine pylons No. 1 and No. 3 for airplanes with 4/0 size cables.

Accomplishment of the actions specified in the service bulletin is intended to adequately address the identified unsafe condition.

For certain airplanes, the ASB also specifies concurrent or prior accomplishment of BFGoodrich Aerospace Service Bulletin MD-11 54-174, dated May 27, 1993, which describes installation of the IDG harness support brackets.

FAA's Determination and Requirements of the Proposed AD

We have evaluated all pertinent information and identified an unsafe condition that is likely to develop on other McDonnell Douglas Model MD-11 and -11F airplanes of the same type design. For this reason, we are proposing this AD, which would supersede AD 2004-01-17 and would retain the requirements of the existing AD. For airplanes having 4/0 size cables, this proposed AD also would require installation of a larger clamp on the power feeder cables of the IDG.

Change to Existing AD

This proposed AD would retain the requirements of AD 2004-01-17. Since AD 2004-01-17 was issued, the AD format has been revised, and certain paragraphs have been rearranged. As a result, the corresponding paragraph identifiers have changed in this proposed AD, as listed in the following table:

Revised Paragraph Identifiers
Requirement in AD 2004-01-17 | Corresponding requirement in this proposed AD
Paragraph (a) | Paragraph (f)
Paragraph (b) | Paragraph (g)
Paragraph (c) | Paragraph (h)
Paragraph (d) | Paragraph (i)

Clarification of Alternative Method of Compliance (AMOC) Paragraph

We have revised this action to clarify the appropriate procedure for notifying the principal inspector before using any approved AMOC on any airplane to which the AMOC applies.

Costs of Compliance

There are about 195 airplanes of the affected design in the worldwide fleet. This proposed AD would affect about 98 Model MD-11 and -11F airplanes of U.S. registry.

The inspections that are required by AD 2004-01-17 and retained in this proposed AD take about 1 work hour per airplane, at an average labor rate of $80 per work hour. Based on these figures, the estimated cost of the currently required actions is $80 per airplane, per inspection cycle.

The new proposed inspection would take about 1 work hour per airplane, at an average labor rate of $80 per work hour. Based on these figures, the estimated cost of the new inspections specified in this proposed AD for U.S. operators is $7,840, or $80 per airplane, per inspection cycle.

The new proposed terminating action would take approximately 4 work hours per airplane to accomplish, at an average labor rate of $80 per work hour. The vendor states that it will supply the parts at no cost to the operator. Based on these figures, the estimated cost of the proposed terminating action specified in this proposed AD for U.S. operators is $31,360, or $320 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-13431 (69 FR 2657, January 20, 2004) and adding the following new airworthiness directive (AD):

McDonnell Douglas: Docket No. FAA-2006-25089; Directorate Identifier 2006-NM-091-AD.

Comments Due Date

(a) The FAA must receive comments on this AD action by August 7, 2006.

Affected ADs

(b) This AD supersedes AD 2004-01-17.

Applicability

(c) This AD applies to McDonnell Douglas Model MD-11 and -11F airplanes, as identified in Boeing Alert Service Bulletin MD11-54A011, Revision 3, dated November 9, 2005; certificated in any category.

Unsafe Condition

(d) This AD results from reports of integrated drive generator (IDG) power feeder cables riding against structure and fuel lines in the No. 1 and No. 3 pylons. We are issuing this AD to prevent potential chafing of the power feeder cables of the IDG in engine pylons No. 1 and No. 3 on the wings, and consequent arcing on the fuel lines in the engine pylons and possible fuel fire.

Compliance

(e) You are responsible for having the actions required by this AD performed within the compliance times specified, unless the actions have already been done.

Requirements of AD 2004-01-17

Note 1: Boeing has issued Information Notice MD11-54A011 R02 IN 02, dated July 11, 2002. The information notice informs operators of a typographical error for the string tie part number (P/N) specified in Boeing Alert Service Bulletin MD11-54A011, Revision 02, dated May 31, 2002. The service bulletin specifies string tie P/N 190L0F21G/A; the correct P/N is 109 LOF 21G/A.

Initial Inspection

(f) Within 30 days after February 24, 2004 (the effective date of AD 2004-01-17), do a general visual inspection of the power feeder cables of the IDG and the fuel feed lines of engine pylons No. 1 and No. 3 on the wings for proper clearance and damage, per Boeing Alert Service Bulletin MD11-54A011, Revision 02, dated May 31, 2002, or Boeing Alert Service Bulletin MD11-54A011, Revision 3, dated November 9, 2005.

Note 2: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

Condition 1: Proper Clearance and No Damage

(g) If proper clearance exists and no damage is detected during any inspection required by paragraph (f) of this AD, do the action(s) specified in paragraphs (g)(1), (g)(2), and (g)(3) of this AD, as applicable, per Boeing Alert Service Bulletin MD11-54A011, Revision 02, dated May 31, 2002, or Boeing Alert Service Bulletin MD11-54A011, Revision 3, dated November 9, 2005.

(1) For Group 1 and Group 2 airplanes identified in the service bulletin: Repeat the inspection required by paragraph (f) of this AD every 6 months until the modification required by paragraph (g)(2) or (g)(3) of this AD, as applicable, has been done.

(2) For Group 1 airplanes identified in the service bulletin: Within 18 months after February 24, 2004, install the brackets to support the IDG harness, and install new clamps on the power feeder cables of the IDG of the No. 1 and No. 3 pylons.

(3) For Group 2 airplanes identified in the service bulletin: Within 18 months after February 24, 2004, replace the existing fairlead with a new clamp, and install new tape.

Condition 2: Improper Clearance and No Damage

(h) If improper clearance exists and no damage is detected during any inspection required by paragraph (f) of this AD, do the action(s) specified in paragraphs (h)(1), (h)(2), and (h)(3) of this AD, as applicable, per Boeing Alert Service Bulletin MD11-54A011, Revision 02, dated May 31, 2002, or Boeing Alert Service Bulletin MD11-54A011, Revision 3, dated November 9, 2005.

(1) For Group 1 and Group 2 airplanes identified in the service bulletin: Before further flight, reposition cables, and repeat the inspection required by paragraph (f) of this AD every 6 months until the modification required by paragraph (h)(2) or (h)(3) of this AD, as applicable, has been done.

(2) For Group 1 airplanes identified in the service bulletin: Within 18 months after February 24, 2004, install the brackets to support the IDG harness, and install new clamps on the power feeder cables of the IDG of engine pylons No. 1 and No. 3.

(3) For Group 2 airplanes identified in the service bulletin: Within 18 months after February 24, 2004, replace the existing fairlead with a new clamp, and install new tape.

Condition 3: Improper Clearance and Damage Detected

(i) If improper clearance exists and any damage is detected during any inspection required by paragraph (f) of this AD, do the action(s) specified in paragraphs (i)(1), (i)(2), and (i)(3) of this AD, as applicable, per Boeing Alert Service Bulletin MD11-54A011, Revision 02, dated May 31, 2002, or Boeing Alert Service Bulletin MD11-54A011, Revision 3, dated November 9, 2005.

(1) For Group 1 and Group 2 airplanes identified in the service bulletin: Before further flight, reposition cables; repair damage or replace damaged cables or fuel feed lines with new or serviceable cables or fuel feed lines; and repeat the inspection required by paragraph (f) of this AD every 6 months until the modification required by paragraph (i)(2) or (i)(3) of this AD, as applicable, has been done.

(2) For Group 1 airplanes identified in the service bulletin: Within 18 months after February 24, 2004, install the brackets to support the IDG harness, and install new clamps on the power feeder cables of the IDG of engine pylons No. 1 and No. 3.

(3) For Group 2 airplanes identified in the service bulletin: Within 18 months after February 24, 2004, replace the existing fairlead with a new clamp, and install new tape.

New Requirements of This AD

General Visual Inspection

(j) For airplanes identified as Group 1, configurations 3 and 4, and Group 2, configuration 2, in Boeing Alert Service Bulletin (ASB) MD11-54A011, Revision 3, dated November 9, 2005: Within 30 days after the effective date of this AD, do a general visual inspection for proper clearance and damage of the power feeder cables of the IDG and the fuel feed lines of engine pylons No. 1 and No. 3 on the wings, in accordance with the Accomplishment Instructions of Boeing ASB MD11-54A011, Revision 3, dated November 9, 2005.

Condition 1: Proper Clearance and No Damage

(k) For airplanes identified as Group 1, configurations 3 and 4, and Group 2, configuration 2, in Boeing ASB MD11-54A011, Revision 3, dated November 9, 2005: If proper clearance exists and no damage is detected during any inspection required by paragraph (j) of this AD, do the actions specified in paragraphs (k)(1), (k)(2), and (k)(3) of this AD, as applicable, in accordance with the Accomplishment Instructions of Boeing ASB MD11-54A011, Revision 3, dated November 9, 2005. Accomplishment of the actions specified in paragraph (k)(2) or (k)(3) of this AD, as applicable, terminates the inspection requirements of paragraph (k)(1) of this AD.

(1) For Group 1 airplanes, configurations 3 and 4, and Group 2, configuration 2: Repeat the inspection required by paragraph (j) of this AD thereafter at intervals not to exceed 6 months, until the actions specified in paragraph (k)(2) or (k)(3) of this AD, as applicable, are accomplished.

(2) For Group 1 airplanes, configuration 3: Within 18 months after the effective date of this AD, install IDG harness support brackets and modify the IDG power feeder cable installations.

(3) For Group 1 airplanes, configuration 4, and Group 2, configuration 2: Within 18 months after the effective date of this AD, modify the IDG power feeder cable installations.

Condition 2: Improper Clearance and No Damage

(l) For airplanes identified as Group 1, configurations 3 and 4, and Group 2, configuration 2, in Boeing ASB MD11-54A011, Revision 3, dated November 9, 2005: If improper clearance exists and no damage is detected during any inspection required by paragraph (j) of this AD, do the actions specified in paragraph (l)(1), (l)(2), and (l)(3) of this AD, as applicable, in accordance with the Accomplishment Instructions of Boeing ASB MD11-54A011, Revision 3, dated November 9, 2005. Accomplishment of the actions specified in paragraphs (l)(2) or (l)(3) of this AD, as applicable, terminates the repetitive inspections required in paragraph (l)(1) of this AD.

(1) Before further flight, reposition the cables. Repeat the inspection required by paragraph (j) of this AD thereafter at intervals not to exceed 6 months, until the actions specified by (l)(2) or (l)(3) of this AD, as applicable, are accomplished.

(2) For Group 1 airplanes, configuration 3: Within 18 months after the effective date of this AD, install IDG harness support brackets and modify the IDG power feeder cable installations.

(3) For Group 1 airplanes, configuration 4, and Group 2 airplanes, configuration 2: Within 18 months after the effective date of this AD, modify the IDG power feeder cable installations.

Condition 3: Improper Clearance and Damage Detected

(m) For airplanes identified as Group 1, configurations 3 and 4, and Group 2, configuration 2, in Boeing ASB MD11-54A011, Revision 3, dated November 9, 2005: If improper clearance exists and there is any damage to the cables, structure, or fuel feed line, do the actions specified in paragraphs (m)(1), (m)(2), and (m)(3) of this AD, as applicable, in accordance with the Accomplishment Instructions of Boeing ASB MD11-54A011, Revision 3, dated November 9, 2005. Accomplishment of the actions specified in paragraphs (m)(2) or (m)(3) of this AD, as applicable, terminates the repetitive inspection requirements of paragraph (m)(1) of this AD.

(1) Before further flight, reposition cables and repair damage or replace damaged cables or fuel feed lines with new or serviceable cables or fuel feed lines. Repeat the inspection required by paragraph (j) of this AD thereafter at intervals not to exceed 6 months, until the actions specified by paragraph (m)(2) or (m)(3) of this AD, as applicable, is accomplished.

(2) For Group 1 airplanes, configuration 3: Within 18 months after the effective date of this AD, install IDG harness support brackets, and modify the IDG power feeder cable installations.

(3) For Group 1 airplanes, configuration 4, and Group 2 airplanes, configuration 2: Within 18 months after the effective date of this AD: Modify the IDG power feeder cable installations.

Alternative Methods of Compliance (AMOCs)

(n)(1) The Manager, Los Angeles Aircraft Certification Office, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

(3) AMOCs approved previously in accordance with AD 2004-01-17, amendment 39-13431, are not approved as AMOCs with this AD.

(4) An AMOC that provides an acceptable level of safety may be used for any repair required by this AD, if it is approved by an Authorized Representative for the Boeing Commercial Airplanes Delegation Option Authorization Organization who has been authorized by the Manager, Los Angeles ACO, to make those findings. For a repair method to be approved, and the approval must specifically refer to this AD.

Issued in Renton, Washington, on June 13, 2006.
Ali Bahrami,
Manager, Transport Airplane Directorate, Aircraft Certification Service.

[FR Doc. E6-9718 Filed 6-20-06; 8:45 am]

BILLING CODE 4910-13-P